DEPARTMENT OF ENERGY

Federal Energy Regulatory Commission

[Project No. 176-018—California]

City of Escondido; Notice of Designation of Certain Commission Personnel as Non-Decisional

September 6, 2006.

Commission staff members James Hastreiter (Office of Energy Projects 503-552-2760; james.hastreiter@ferc.gov) and Elizabeth Molloy (Office of the General Counsel; 202-502-8771; elizabeth.molloy@ferc.gov) are assigned to help resolve environmental and other issues associated with development of a settlement agreement for the Escondido Project.

As “non-decisional” staff, Mr. Hastreiter and Ms. Molloy will not participate in an advisory capacity in the Commission's review of any offer of settlement or settlement agreement, or deliberations concerning the disposition of the relicense application.

Different Commission “advisory staff” will be assigned to review any offer of settlement or settlement agreement, and to process the relicense application, including providing advice to the Commission with respect to the agreement and the application. Non-decisional staff and advisory staff are prohibited from communicating with one another concerning the settlement and the relicense application.

Magalie R. Salas,
Secretary.

[FR Doc. E6-15153 Filed 9-12-06; 8:45 am]

BILLING CODE 6717-01-P